DEPARTMENT OF COMMERCE

Foreign-Trade Zones Board

[Docket 26-2000]

Foreign-Trade Zone 93—Raleigh/Durham, NC; Withdrawal of Application for Subzone Status for Pergo, Inc., Laminate-Particle Board Flooring Plant

Notice is hereby given of the withdrawal of the application submitted by the Triangle J Council of Governments, grantee of FTZ 93, requesting special-purpose subzone status for the laminate-particle board flooring products manufacturing facility of Pergo, Inc., located in Garner, North Carolina. The application was filed on June 5, 2000.

The withdrawal was requested because of changed circumstances, and the case has been closed without prejudice.

Dated: September 26, 2001.
Dennis Puccinelli,
Executive Secretary.

[FR Doc. 01-24925 Filed 10-3-01; 8:45 am]

BILLING CODE 3510-DS-P